DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on May 15, 2007. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Contract Services Office, Bureau of Reclamation, PO Box 25007, Denver, Colorado 80225-0007 telephone 303-445-2902.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcments may be in the form of news releases, legal notices, official letters, memorandums, or other forms of written material. Meetings, workshops, and/or hearings may also be used, as appropriate, to provide local publicity. The public participation procedures do not apply to proposed contracts for the sale or surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and coditions of the contract may be invovled.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the approproate regional or project office of Reclamation.

3. Written correspondence regarding contracts may be made available to the general public pursuant to the terms and procedures of the Freedom of Information Act, as needed.

4. Written comments on a proposed contract or contract action must be submitted to the appropriate regional officials at the locations and within the time limits set forth in the advance public notices.

5. All written comments received and testimony presented at any public hearing will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) The significance of the modification, and (ii) the degree of public interest which has been expressed over the course of the negotiations. At a minimum, the regional director shall furnish revised contracts to all parties who requested the contract in response to the initial public notice.

Definitions of Abbreviations Frequently Used in This Document

BCP Boulder Canyon Project

Reclamation Bureau of Reclamation

CAP Central Arizona Project

CVP Central Valley Project

CRSP Colorado River Storage Project

FR Federal Register

IDD Irrigation and Drainage District

ID Irrigation District

M&I Municipal and Industrial

NMISC New Mexico Interstate Stream Commission

O&M Operation and Maintenance

P-SMBP Pick-Sloan Missouri Basin Program

PPR Present Perfected Right

RRA Reclamation Reform Act of 1982

SOD Safety of Dams

USACE U.S. Army Corps of Engineers

WD Water District

Pacific Northwest Region: Bureau of Reclamation, 1150 North Curtis Road, Suite 100, Boise, Idaho 83706-1234, telephone 208-378-5344.

Discontinued Contract Actions

9. Burley ID, Minidoka Project, Idaho-Wyoming: Supplemental and amendatory contract providing for the transfer of O&M of the headworks of the Main South Side Canal and works incidental thereto.

10. Minidoka ID, Minidoka Project, Idaho-Wyoming: Supplemental and amendatory contract providing for the transfer of O&M of the headworks of the Main North Side Canal and works incidental thereto.

12. Vale and Warmsprings IDs, Vale Project, Oregon: Repayment contract for reimbursable cost of SOD modifications to Warm Springs Dam.

Completed Contract Action

16. One irrigation water user entity, Boise Project, Idaho: Long-term renewal and/or conversion of one irrigation water service contract for supplemental irrigation use of up to 1,718 acre-feet of storage space in Lucky Peak Reservoir, a USACE project on the Boise River, Idaho. Seventeen water service contracts have been converted to repayment contracts for a total of 68,500 acre-feet of storage space. All original 17 water service contracts have been converted to repayment contracts.

Mid-Pacific Region: Bureau of Reclamation, 2800 Cottage Way, Sacramento, California 95825-1898, telephone 916-978-5250.

Modified Contract Action

25. Orland Unit Water User's Association, Orland Project, California: Repayment contract for SOD costs assigned to the irrigation purposes of Stony Gorge Dam.

Completed Contract Action

37. Gray Lodge Wildlife Area Deep Well Pumping Reimbursement Agreement, Central Valley Project Improvement Act, California: Amendment to extend termination date for 1 more year will be executed by December 2007. Contract executed January 31, 2007.

Lower Colorado Region: Bureau of Reclamation, PO box 61470 (Nevada Highway and Park Street), Boulder City, Nevada 89006-1470, telephone 702-293-8192.

New Contract Actions

32. Basic Management, Inc., BCP, Nevada: Amend contract to add additional service areas where part of the contractor's entitlement can be used.

33. City of Yuma, BCP, Arizona: Amendment to extend contract to allow for the diversion of water through Yuma Project facilities for an additional term of 10 years.

Completed Contract Action

30. City of Needles and The Metropolitan WD of Southern California, Lower Colorado Water Supply Project, California: Contract for acquisition and delivery of Lower Colorado Water Supply Project water. Contract executed March 26, 2007.

Upper Colorado Region: Bureau of Reclamation, 125 South State Street, Room 6107, Salt Lake City, Utah 84138-1102, telephone 801-524-3964.

New Contract Actions

1.(d) John and Joan Holton, Aspinall Storage Unit, CRSP: Mr. and Mrs. Holton have requested a 40-year water service contract for 1 acre-foot of M&I water out of Blue Mesa reservoir, which requires Mr. and Mrs. Holton to present a Plan of Augmentation to the Division 4 Water Court.

1.(e) Old Castle SW Group dba United Companies, Aspinall Storage Unit, CRSP: United Companies has requested a 40-year water service contract for 36 acre-feet of M&I water out of Blue Mesa reservoir, which requires United Companies to present a Plan of Augmentation to the Division 4 Water Court.

32. Aaron Million, Million Conservation Resource Group, Flaming Gorge Storage Unit, CRSP: Mr. Million has requested a Standby Contract to secure the first right to contract up to 165,000 acre-feet annually of M&I water service from Flaming Gorge Reservoir for a proposed, privately financed and constructed transbasin diversion project.

33. Uintah Water Conservancy District, Jensen Unit, Central Utah Project, Utah: Temporary water service contract for 2,520 acre-feet of unsubscribed Jensen Unit M&I water.

34. Weber Basin Water Conservancy District, Weber Basin Project, Utah: Contract providing for the district to repay to the United States 15 percent of the cost of Phase I SOD modifications to Arthur V. Watkins Dam.

35. Weber Basin Water Conservancy District, Weber Basin Project, Utah: Contract providing for the district to repay to the United States 15 percent of the cost of Phase II SOD modifications to Arthur V. Watkins Dam.

Completed Contract Actions

1.(a) Oxbow Mining, LLC, Aspinall Storage Unit, CRSP: Oxbow Mining, LLC has requested a 40-year water service contract for 242 acre-feet of M&I water out of Blue Mesa Reservoir, which requires that an augmentation plan be presented to the Division 4 Water Court. Contract executed April 11, 2007.

21. Carbon Water Conservancy District, Scofield Project, Utah: Contract providing for the district to repay to the United States 15 percent of the cost of SOD modifications to the spillway at Scofield Dam. Contract executed June 1, 2007.

Great Plains Region: Bureau of Reclamation, PO Box 36900, Federal Building, 316 North 26th Street, Billings, Montana 59101, telephone 406-247-7752.

New Contract Actions

52. Hamlin Construction, Inc., Helena Valley Unit, P-SMBP, Montana: Request for a long-term water service contract for M&I purposes for up to 500 acre-feet of water per year.

53. Richard Davis, Helena Valley Unit, P-SMBP, Montana: Request for a long-term water service contract for M&I purposes for up to 24 acre-feet of water per year.

54. Individual Irrigators, Canyon Ferry Unit, P-SMBP, Montana: Replace temporary 1-year contracts with long-term water service contracts for minor amounts of less than 1,000 acre-feet of irrigation water annually from the Missouri River below Canyon Ferry Dam.

55. Individual Irrigators, Lower Marias Unit, P-SMBP, Montana: Execute long-term water service contracts for commercial irrigation from Lake Elwell and the Marias River below Tiber Dam.

56. Turtle Lake ID, Garrison Diversion Unit, North Dakota: Turtle Mountain ID has requested a water service contract under the Dakota Water Resources Act of 2000 as part of the Garrison Diversion Unit.

Modified Contract Actions

5. City of Rapid City, Rapid Valley Unit, P-SMBP, South Dakota: Contract renewal for storage capacity in Pactola Reservoir. A temporary (1 year not to exceed 10,000 acre-feet) water service contract has been executed with the City of Rapid City, Rapid Valley Unit, for use of water from Pactola Reservoir. A long-term storage contract for 49,000 acre-feet has been negotiated with the City, and a final draft of the contract has been tansmitted to the City for approval by their City Council. Execution of the long-term contract is anticipated within the next 2 months.

6. Mid-Dakota Rural Water System, Inc., South Dakota: Pursuant to the Reclamation Projects Authorization and Adjustment Act of 1992, the Secretary of the Interior is authorized to make grants and loans to Mid-Dakota Rural Water System, Inc., a non-profit corporation for the planning and construction of a rural water supply system. Construction of the rural water supply system was completed in September 2006.

Completed Contract Actions

7. City of Berthoud, Colorado-Big Thompson Project, Colorado: Long-term contract for conveyance of nonproject M&I water through Colorado-Big Thompson Project facilities. Contract was executed March 23, 2007.

29. Buford-Trenton ID, Buford-Ternton Project, P-SMBP, North Dakota: Enter into a new repayment contract and power contract for additional project use pumping power for project purposes in irrigating bench lands existing within the district. Contract was executed May 7, 2007.

31. Ainsworth ID, Ainsworth Unit, Sandhills Division, P-SMBP, Ainsworth, Nebraska: Contract renewal for a long-term water service contract. Contract was executed December 26, 2006.

35. Frenchman-Cambridge ID; Meeker-Driftwood, Red Willow, and Cambridge Units; Frenchman Division: P-SMBP; Cambridge, Nebraska: Amend the repayment contract for equalization of the construction obligation payments over the remaining years of the water supply repayment obligation period, and to delay the increase in the reserve fund payments pursuant to Public Law 109-386, which was enacted on December 12, 2006. Contract was executed June 8, 2007.

36. Kansas-Bostwick ID No. 2; Courtland Unit, Bostwick Division, P-SMBP; Courtland, Kansas: Amend the repayment contract for equalization of the construction obligation payments over the remaining years of the water supply repayment obligation period, and to delay the increase in the reserve fund payments pursuant to Public Law 109-386, which was enacted on December 12, 2006. Contract was executed June 8, 2007.

37. Bostwick ID in Nebraska; Superior-Courtland and Franklin Units, Bostwick Division, P-SMBP; Red Cloud, Nebraska: Amend the repayment contract for equalization of the construction obligation payments over the remaining years of the water supply repayment obligation period, and to delay the increase in the reserve fund payments pursuant to Public Law 109-386, which was enacted on December 12, 2006. Contract was executed June 8, 2007.

38. Webster ID; Webster Unit, Solomon Division, P-SMBP; Gaylord Kansas: Amend the repayment contract for equalization of the construction obligation payments over the remaining years of the water supply repayment obligation period, and to delay the increase in the reserve fund payments pursuant to Public Law 109-386, which was enacted on December 12, 2006. Contract was executed June 8, 2007.

Dated: July 5, 2007.
Roseann Gonzales,
Director, Office of Program and Policy Services.

[FR Doc. 07-4086 Filed 8-21-07; 8:45 am]

BILLING CODE 4310-MN-M